Presidential Permit of June 13, 2025

Authorizing the City of Laredo, Texas, To Expand and Continue To Maintain, and Operate a Vehicular Border Crossing at the Laredo-Colombia Solidarity International Bridge Land Port of Entry

By virtue of the authority vested in me as President of the United States of America (the “President”), I hereby grant permission, subject to the conditions set forth herein, to the City of Laredo, Texas (the “permittee”), to expand and continue to maintain and operate a vehicular crossing at the Laredo-Colombia Solidarity International Bridge Land Port of Entry located on the United States border with Mexico in Laredo, Texas, as described in the “Application for a Presidential Permit Laredo-Colombia Solidarity International Bridge Expansion” dated November 14, 2024, by the permittee to the Secretary of State and made complete with additional information provided by the permittee on February 18, 2025 (collectively, the “Application”), in accordance with 33 U.S.C. 535d and associated procedures.

The term “Border facilities” as used in this permit consists of the bridge over the Rio Grande, including two new 4-lane spans for commercial traffic parallel and adjacent to the existing Laredo-Colombia Solidarity International Bridge Land Port of Entry, its approaches, and any land, structures, installations, or equipment appurtenant thereto located at the connection between Texas State Highway 255 and the Nuevo Leon State Highway Spur 1 in Laredo, Texas, on the United States side of the international boundary between the United States and Mexico.

This permit is subject to the following conditions:

Article 1. The Border facilities herein described and all aspects of their operation are subject to all the conditions, provisions, and requirements of this permit and any subsequent Presidential amendment to it. The construction, maintenance, and operation of the Border facilities shall be in all material respects as described in the Application.

Article 2. The standards for and the manner of construction, maintenance, and operation of the Border facilities are subject to inspection by the representatives of appropriate Federal, State, and local agencies. The permittee shall grant officers and employees of such agencies that are duly authorized and performing their official duties free and unrestricted access to said Border facilities.

Article 3. The permittee shall comply with all applicable Federal laws and regulations regarding the construction, maintenance, and operation of the Border facilities.

Article 4. (1) The permittee shall take or cause to be taken all appropriate measures to mitigate adverse impacts on or disruption of the human environment in connection with the construction, maintenance, and operation of the Border facilities. Mitigation measures are those that avoid, minimize, or compensate for adverse impacts.

(2) The permittee shall hold harmless and indemnify the United States for any claimed or adjudged liability arising out of construction, maintenance, and operation of the Border facilities, including environmental contamination from the release, threatened release, or discharge of hazardous substances or hazardous waste.

(3) The permittee is responsible for obtaining any required Federal, State, and local permits, approvals, and authorizations prior to commencing construction activities. The permittee shall implement the mitigation identified in any environmental decision documents prepared in accordance with the National Environmental Policy Act and Federal permits, including stormwater permits and permits issued in accordance with section 402 of the Clean Water Act (33 U.S.C. 1342). The permittee shall comply with applicable Federal, State, and local environmental laws.

Article 5. The permittee shall immediately notify the President or his designee of any decision to transfer custody and control of the Border facilities or any part thereof to any executive department or agency (agency) of the United States Government. Said notice shall identify the transferee agency and seek the approval of the President for the transfer of the permit. In the event of approval by the President of such transfer, this permit shall remain in force and effect, and the Border facilities shall be subject to all the conditions, permissions, and requirements of this permit and any amendments thereof. The permittee may transfer ownership or control of the Border facilities to a non-Federal entity or individual only upon the prior express approval of such transfer by the President, which approval may include such conditions, permissions, and requirements that the President, in the President's discretion, determines are appropriate and necessary for inclusion in the permit, to be effective on the date of transfer.

Article 6. The permittee is responsible for acquiring and maintaining any right-of-way grants or easements, permits, and other authorizations as may become necessary or appropriate. To ensure the safe operation of the Border facilities, the permittee shall maintain them and every part of them in a condition of good repair and in compliance with applicable law and use of best management practices.

Article 7. To the extent authorized by law, and consistent with any Donation Acceptance Agreements (DAAs) already executed with the permittee under the Donation Acceptance Authority found in 6 U.S.C. 301a and section 559 of title V of division F of the Consolidated Appropriations Act, 2014 (Public Law 113-76), as amended, as continued by 6 U.S.C. 301b, the permittee shall provide to the Commissioner of U.S. Customs and Border Protection (Commissioner) of the Department of Homeland Security and the heads of any other relevant agencies, at no cost to the United States, suitable inspection facilities, infrastructure improvements, equipment, and maintenance, as set forth in the DAAs. Nothing in this permit obligates such agencies to provide a particular level of services or staffing for such inspection facilities or for any other aspect of the port of entry associated with the Border facilities.

Article 8. Before beginning design activities, the permittee shall provide a Donation Acceptance Proposal for the approval of the Commissioner, the Administrator of General Services, and the Secretary of Transportation detailing the permittee's plans for the construction and staffing of suitable inspection facilitates, infrastructure improvements, equipment, and maintenance at no cost to the United States upon commencement of operations utilizing the construction expansion and thereafter. Relevant agencies will coordinate with the permittee to further refine the above conditions, as necessary, within 1 year of permit issuance.

Article 9. Before initiating construction, the permittee shall obtain the concurrence of the United States Section of the International Boundary and Water Commission, United States and Mexico.

Article 10. The permittee shall not initiate construction until the Department of State has provided notification to the permittee that the Department of State has completed its exchange of diplomatic notes with the Government of Mexico regarding authorization. The permittee shall provide written notification to the President or his designee at the time that the construction authorized by this permit begins, at the time as such construction is completed, interrupted, or discontinued, and at other times as may be requested by the President.

Article 11. Upon request, the permittee shall provide appropriate information to the President or his designee with regard to the Border facilities. Such requests could include requests for information concerning current conditions, environmental compliance, mitigation, or anticipated changes in ownership or control, construction, connection, operation, or maintenance of the Border facilities.

Article 12. The permittee shall file any applicable statements and reports required by applicable Federal law in connection with the Border facilities.

Article 13. The permittee shall make no substantial change inconsistent with the Application to the Border facilities, in the location of the Border facilities, or in the operation authorized by this permit, unless such changes have been approved by the President. The President may terminate, revoke, or amend this permit at any time at his sole discretion. The permittee's obligation to implement any amendment to this permit is subject to the availability of funds. If the permittee permanently closes the Laredo-Colombia Solidarity International Bridge and it is no longer used as an international crossing, then this permit shall terminate, and the permittee may manage, utilize, or dispose of the Border facilities in accordance with applicable authorities. This permit shall continue in full force and effect for only so long as the permittee continues the operations hereby authorized.

Article 14. This permit shall expire 5 years from the date of its issuance if the permittee has not commenced construction of the Border facilities by that date.

Article 15. This permit is not intended to, and does not, create any right or benefit, substantive or procedural, enforceable at law or in equity by any party against the United States, its departments, agencies, or entities, its officers, employees, or agents, or any other person.

IN WITNESS WHEREOF, I have hereunto set my hand this thirteenth day of June, in the year of our Lord two thousand twenty-five, and of the Independence of the United States of America the two hundred and forty-ninth.

[FR Doc. 2025-11389

Filed 6-18-25; 8:45 am]

Billing code 4710-10-P